DEPARTMENT OF ENERGY

Federal Energy Regulatory Commission

[Docket No. ER99-1261-004, et al.]

EE South Glens Falls, et al.; Electric Rate and Corporate Regulation Filings

March 22, 2002.

Take notice that the following filings have been made with the Commission. Any comments should be submitted in accordance with Standard Paragraph E at the end of this notice.

1. EE South Glens Falls

[Docket No. ER99-1261-004]

Take notice that on March 15, 2002, South Glens Falls Energy, LLC (South Glens Falls Energy) tendered a letter correcting its name as it appears in its March 11, 2002 triennial market power review. Comment Date: April 5, 2002.

2. Duke Energy Washington, LLC

[Docket No. ER02-795-001]

Take notice that on March 15, 2002, Duke Energy Washington, LLC filed a notice of status change with the Federal Energy Regulatory Commission (Commission) in connection with the Commission's Order authorizing a change in upstream control of Engage Energy America LLC and Frederickson Power L.P. resulting from a transaction involving Duke Energy Corporation and Westcoast Energy Inc. (Engage Energy America, LLC, Frederickson Power L.P., Duke Energy Corp., 98 FERC ¶ 61,207 (2002)).

Copies of the filing were served upon all parties on the official service list compiled by the Secretary of the Federal Energy Regulatory Commission in this proceeding. Comment Date: April 5, 2002.

3. AES Ironwood, L.L.C.

[Docket Nos. ER02-872-001]

Take notice that on March 15, 2002, AES Ironwood, L.L.C (AES Ironwood) resubmitted its long-term power sales agreement between AES Ironwood and Williams Energy Marketing & Trading Company (the Agreement) to fully comply with Order 614, 90 FERC ¶ 61,352. Confidential treatment of the Agreement, pursuant to 18 CFR 385.112 (2000), has been requested.

Comment Date: April 5, 2002.

4. Vandolah Power Company, L.L.C.

[Docket No. ER02-1336-000]

Take notice that on March 19, 2002, Vandolah Power Company, L.L.C. (Vandolah Power), filed with the Federal Energy Regulatory Commission (Commission) an application for approval of its initial tariff (FERC Electric Tariff Original Volume No. 1), and for blanket approval for market-based rates pursuant to part 35 of the Commission's regulations.

Vandolah Power is a limited liability corporation formed under the laws of Delaware. Vandolah Power owns a 630-MW generating plant that is under construction in Hardee County, Florida.

Comment Date: April 9, 2002.

5. PJM Interconnection, L.L.C.

[Docket No. ER02-1341-000]

Take notice that on March 20, 2002, PJM Interconnection, L.L.C. (PJM), tendered for filing with the Federal Energy Regulatory Commission (Commission) the following executed agreements: (I) an umbrella agreement for short-term firm point-to-point service with Dominion Energy Marketing, Inc. (Dominion); (ii) an umbrella agreement for non-firm point-to-point transmission service with Dominion; (iii) an umbrella agreement for short-term firm point-to-point transmissions service with RWE Trading Americas, Inc. (RWE Trading); (iv) an umbrella agreement for non-firm point-to-point transmission service with RWE Trading.

PJM requested a waiver of the Commission's notice regulations to permit effective date of February 22, 2002 for the agreements. Copies of this filing were served upon Dominion and RWE Trading, as well as the state utility regulatory commissions within the PJM control area.

Comment Date: April 10, 2002.

6. State Line Energy, L.L.C. and Dominion State Line, Inc.

[Docket Nos. ER02-1342-000 and ER96-2869-003]

Take notice that on March 20, 2002, State Line Energy, L.L.C. (State Line Energy) filed with the Federal Energy Regulatory Commission (Commission) its Joint Application to Renew Market-Based Rate Authorization and Filing of Notice of Change in Status, First Revised Volume No. 1 and Service Agreement No. 1 of its Market-Based Rate Tariff pursuant to Section 205 of the Federal Power Act, to address a proposed upstream change in ownership.

State Line Energy owns and operates the approximately 515 MW, coal-fired State Line power generation facility in Hammond, Indiana. This filing is made necessary to reflect the proposed sale, by Mirant Americas Generation, LLC, an indirect subsidiary of Mirant Corporation, of one hundred percent (100%) of the issued and outstanding capital stock of Mirant State Line Ventures, Inc., which holds, through its direct and indirect subsidiaries, one hundred percent (100%) of the ownership interests in State Line Energy to Dominion State Line, Inc., an indirect subsidiary of Dominion Resources, Inc. Comment Date: April 10, 2002.

7. Michigan Electric Transmission Company and Consumers Energy Company

[Docket No. ER02-1343-000]

Take notice that on March 19, 2002, Consumers Energy Company (Consumers) and Michigan Electric Transmission Company (METC) tendered for filing with the Federal Energy Regulatory Commission (Commission) a Third Supplemental Notice of Succession and a Rate Schedule Filing for METC related to the transfer of transmission assets from Consumers to Michigan Transco. If acted on by the Commission as requested, the Third Supplemental Notice of Succession and related METC Rate Schedule would be effective April 1, 2001.

A full copy of the filing was served upon the Michigan Public Service Commission and The Detroit Edison Company, which is a party to each of the agreements here at issue.

Comment Date: April 9, 2002.

8. Public Service Company of New Mexico

[Docket No. ER02-1344-000]

Take notice that on March 18, 2002, Public Service Company of New Mexico (PNM) submitted for filing with the Federal Energy Regulatory Commission (Commission) an Interim Invoicing Agreement with respect to invoicing for coal deliveries from San Juan Coal Company among PNM, Tucson Electric Power Company (TEP), and the other owners of interests in the San Juan Generating Station covering the period from January 1, 2002 through December 31, 2002. The Interim Invoicing Agreement is an appendix to the San Juan Project Participation Agreement (PPA), and effectively modifies the PPA for that same period. PNM's filing is available for public inspection at its offices in Albuquerque, New Mexico.

PNM requests waiver of the Commission's notice requirements in order to allow the Interim Invoicing Agreement to be effective as of January 1, 2002. Copies of the filing have been sent to the New Mexico Public Regulation Commission, TEP, and each of the owners of an interest in the San Juan Generating Station.

Comment Date: April 8, 2002.

9. American Transmission Systems, Inc.

[Docket No. ER02-1345-000]

Take notice that on March 20, 2002, American Transmission Systems, Inc., filed a Service Agreement to provide Firm Point-to-Point Transmission Service for Dominion Energy Marketing, Inc., the Transmission Customer. Services are being provided under the American Transmission Systems, Inc., Open Access Transmission Tariff submitted for filing by the Federal Energy Regulatory Commission (Commission) in Docket No. ER99-2647-000.

The proposed effective date under the Service Agreement is March 18, 2002 for the above mentioned Service Agreement in this filing.

Comment Date: April 10, 2002.

10. Metropolitan Edison Company

[Docket No. ER02-1347-000]

Take notice that on March 20, 2002, Metropolitan Edison Company (MetEd) submitted for filing a Borderline Service Agreement between MetEd and PPL Electric Utilities Corporation (PPL). Under the Agreement, MetEd will supply electric service to two PPL customers—Randy Stoudt and the Red Suspenders Gun Club—located near MetEd facilities but inside the PPL service territory in Pine Grove, Pennsylvania.

Comment Date: April 10, 2002.

11. UBS AG

[Docket No. ER02-1348-000]

Take notice that on March 20, 2002, UBS AG (UBS) tendered for filing with the Federal Energy Regulatory Commission ( Commission) correspondence approving its membership to the Western Systems Power Pool (WSPP). UBS requests that the Commission allow its membership in the WSPP to become effective on March 20, 2002.

UBS states that a copy of this filing has been provided to the WSPP Executive Committee and to Michael E. Small, Esq.

Comment Date: April 10, 2002.

12. Tucson Electric Power Company

[Docket No. ER02-1349-000]

Take notice that on March 20, 2002, Tucson Electric Power Company tendered for filing an Amended Service Agreement for Network Integration Transmission Service.

Comment Date: April 10, 2002.

13. SIGCORP Energy Services LLC

[Docket No.ER02-1350-000]

Take notice that on March 20, 2002, SIGCORP Energy Services, LLC (SIGCORP Energy), filed with the Federal Energy Regulatory Commission (Commission) a Notice of Cancellation, effective March 20, 2002, of SIGCORP Energy Rate Schedule FERC No. 1.

IGCORP Energy provides that it is canceling its Rate Schedule FERC No. 1 because it has never sold electric power pursuant to that Rate Schedule and does not contemplate doing so in the future. SIGCORP Energy states that there is no need for SIGCORP Energy to maintain its Rate Schedule FERC No. 1.

Comment Date: April 10, 2002.

Standard Paragraph

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-7445 Filed 3-27-02; 8:45 am]

BILLING CODE 6717-01-P